FEDERAL DEPOSIT INSURANCE CORPORATION

Sunshine Act Meetings; Notice of Change in Subject Matter of Agency Sunshine Act Meeting

Pursuant to the provisions of subsection (e)(2) of the “Government in the Sunshine Act” (5 U.S.C. 552b(e)(2)), notice is hereby given that at its open meeting held at 10:01 a.m. on Tuesday, July 20, 2021, the Corporation's Board of Directors determined, on motion of Director Martin J. Gruenberg (Appointive), seconded by Director David Uejio (Acting Director, Consumer Financial Protection Bureau), and concurred in by Director Michael J. Hsu (Acting Comptroller of the Currency), and by Chairman Jelena McWilliams, that Corporation business required the deferral of an item on the agenda for consideration at the meeting, on less than seven days' notice to the public, of the following matter:

Memorandum and resolution re: Notice of Proposed Rulemaking on Revisions to Standardized Approach for Calculating the Exposure Amount of Derivative Contracts.

The Board further determined, by the same majority vote, that no notice earlier than July 20, 2021, of the change in the subject matter of the meeting was practicable.

Dated this the 20th day of July, 2021.
Federal Deposit Insurance Corporation.
James P. Sheesley,
Assistant Executive Secretary.

[FR Doc. 2021-15807 Filed 7-21-21; 4:15 pm]

BILLING CODE 6714-01-P